DEPARTMENT OF COMMERCE

Foreign-Trade Zones Board

[S-3-2015]

Foreign-Trade Zone 245—Decatur, Illinois, Application for Subzone, Thyssenkrupp Presta Danville, LLC, Danville, Illinois

An application has been submitted to the Foreign-Trade Zones Board (the Board) by the Economic Development Corporation of Decatur & Macon County, grantee of FTZ 245, requesting subzone status for the facility of Thyssenkrupp Presta Danville, LLC (Thyssenkrupp Presta), located in Danville, Illinois. The application was submitted pursuant to the provisions of the Foreign-Trade Zones Act, as amended (19 U.S.C. 81a-81u), and the regulations of the Board (15 CFR part 400). It was formally docketed on January 14, 2015.

The proposed subzone (42.6 acres) is located at 75 Walz Creek Drive, Danville, Vermilion County. The applicant has indicated that a notification of proposed production activity will be submitted. Any such notification will be published separately for public comment. The proposed subzone would be subject to the existing activation limit of FTZ 245.

In accordance with the Board's regulations, Elizabeth Whiteman of the FTZ Staff is designated examiner to review the application and make recommendations to the Executive Secretary.

Public comment is invited from interested parties. Submissions shall be addressed to the Board's Executive Secretary at the address below. The closing period for their receipt is March 2, 2015. Rebuttal comments in response to material submitted during the foregoing period may be submitted during the subsequent 15-day period to March 17, 2015.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Elizabeth Whiteman at Elizabeth.Whiteman@trade.gov or (202) 482-0473.

Dated: January 14, 2015.
Andrew McGilvray,
Executive Secretary.

[FR Doc. 2015-00937 Filed 1-20-15; 8:45 am]

BILLING CODE 3510-DS-P